DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Alaska Region Gear Identification Requirements.

Form Number(s): None.

OMB Approval Number: 0648-0353.

Type of Request: Regular submission.

Burden Hours: 3,138.

Number of Respondents: 1,692.

Average Hours per Response: Fifteen minutes.

Needs and Uses: Participants in the groundfish fisheries in the Exclusive Economic Zone off the coast of Alaska are required to mark identification information on marker buoys for hook-and-line, longline pot, and pot-and-line gear. The information is needed for fishery enforcement purposes. Cooperating fishermen also use the gear identification to report placement or occurrence of gear in unauthorized areas. Fishermen marking their gear correctly ultimately benefit, as unauthorized and illegal fishing is deterred and more burdensome regulations are avoided.

Affected Public: Business or other for-profit.

Frequency: Annually.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, Fax number (202) 395-7285, or David_Rostker@omb.eop.gov.

Dated: July 3, 2007.
Gwellnar Banks,
Management Analyst, Office of the Chief Information Officer.

[FR Doc. E7-13216 Filed 7-6-07; 8:45 am]

BILLING CODE 3510-22-P